DEPARTMENT OF ENERGY

Federal Energy Regulatory Commission

Combined Notice of Filings

Take notice that the Commission has received the following Natural Gas Pipeline Rate and Refund Report filings:

Filings Instituting Proceedings

Docket Numbers: RP15-74-000.

Applicants: Texas Eastern Transmission, LP.

Description: § 4(d) rate filing per 154.403: PCB TETLP DEC 2014 FILING to be effective 12/1/2014.

Filed Date: 10/29/14.

Accession Number: 20141029-5001.

Comments Due: 5 p.m. ET 11/10/14.

Docket Numbers: RP15-75-000.

Applicants: Trunkline Gas Company, LLC.

Description: Compliance filing per 154.203: Annual Interruptible Storage Revenue Credit filed on 10-29-13.

Filed Date: 10/29/14.

Accession Number: 20141029-5047.

Comments Due: 5 p.m. ET 11/10/14.

Docket Numbers: RP15-76-000.

Applicants: Southeast Supply Header, LLC.

Description: § 4(d) rate filing per 154.204: SESH Incremental Fuel—Additional FTS Contract to be effective 11/1/2014.

Filed Date: 10/29/14.

Accession Number: 20141029-5091.

Comments Due: 5 p.m. ET 11/10/14.

Docket Numbers: RP15-77-000.

Applicants: Iroquois Gas Transmission System, L.P.

Description: § 4(d) rate filing per 154.204: 10/29/14 Negotiated Rates—Cargill Incorporated (RTS) 3085-23 to be effective 11/2/2014.

Filed Date: 10/29/14.

Accession Number: 20141029-5171.

Comments Due: 5 p.m. ET 11/10/14.

Docket Numbers: RP15-78-000.

Applicants: Texas Eastern Transmission, LP.

Description: § 4(d) rate filing per 154.204: PSEG ERT 11-1-2014 Negotiated Rate (TIME II) to be effective 11/1/2014.

Filed Date: 10/30/14.

Accession Number: 20141030-5025.

Comments Due: 5 p.m. ET 11/12/14.

Docket Numbers: RP15-79-000.

Applicants: Texas Eastern Transmission, LP.

Description: § 4(d) rate filing per 154.204: TEMAX Revised Negotiated Rates eff 4-1-2016 to be effective 4/1/2016.

Filed Date: 10/30/14.

Accession Number: 20141030-5026.

Comments Due: 5 p.m. ET 11/12/14.

Docket Numbers: RP15-80-000.

Applicants: Texas Eastern Transmission, LP.

Description: § 4(d) rate filing per 154.204: TEMAX Revised Negotiated Rates eff 12-1-2014 to be effective 12/1/2014.

Filed Date: 10/30/14.

Accession Number: 20141030-5028.

Comments Due: 5 p.m. ET 11/12/14.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

Filings in Existing Proceedings

Docket Numbers: RP14-1198-002.

Applicants: Eastern Shore Natural Gas Company.

Description: Tariff Withdrawal per 154.205(a): Withdrawl of Compliance filing in Docket No. RP14-1198-002.

Filed Date: 10/29/14.

Accession Number: 20141029-5139.

Comments Due: 5 p.m. ET 11/10/14.

Docket Numbers: RP14-1206-001.

Applicants: Southern Star Central Gas Pipeline, Inc.

Description: Compliance filing per 154.203: Operational Performance Provisions Compliance Filing to be effective 10/30/2014.

Filed Date: 10/29/14.

Accession Number: 20141029-5031.

Comments Due: 5 p.m. ET 11/10/14.

Docket Numbers: RP14-842-001.

Applicants: PGPipeline LLC.

Description: Compliance filing per 154.203: PGPipeline LLC Compliance Filing to be effective 10/16/2014.

Filed Date: 10/29/14.

Accession Number: 20141029-5046.

Comments Due: 5 p.m. ET 11/10/14.

Docket Numbers: RP14-901-001.

Applicants: Eastern Shore Natural Gas Company.

Description: Compliance filing per 154.203: Compliance with Order on Show Cause under Eastern Shore Docket No. RP14-901-000 to be effective 10/16/2014.

Filed Date: 10/29/14.

Accession Number: 20141029-5158.

Comments Due: 5 p.m. ET 11/10/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated October 30, 2014.
Nathaniel J. Davis, Sr.,
Deputy Secretary.

[FR Doc. 2014-26569 Filed 11-7-14; 8:45 am]

BILLING CODE 6717-01-P